OFFICE OF SCIENCE AND TECHNOLOGY POLICY

Notice of Meetings: Public Meetings of the National Science and Technology Council; Committee on Technology; Nanoscale Science, Engineering, and Technology Subcommittee; National Nanotechnology Coordination Office

AGENCY: Office of Science and Technology Policy.

ACTION: Notice of public meetings.

SUMMARY: The National Nanotechnology Coordination Office (NNCO), on behalf of the Nanoscale Science, Engineering, and Technology (NSET) Subcommittee of the Committee on Technology, National Science and Technology Council (NSTC) and in collaboration with the European Commission, will hold the 2013 “U.S.-EU Bridging NanoEHS Research Efforts” joint workshop on December 2-3, 2013, in Arlington, Virginia. The workshop will bring together the U.S.-EU Communities of Research (CORs), which are a platform for scientists to develop a shared repertoire of protocols and methods to overcome research gaps and barriers and to address environmental, health, and safety questions about nanomaterials. The goal of this workshop is to publicize progress towards COR goals and objectives, clarify and communicate future plans, share best practices, and identify areas of cross-Community collaboration.

NNCO and the European Commission will also host meetings for the CORs on the topic of environmental, health, and safety issues related to nanomaterials between the publication date of this Notice and September 30, 2014. The co-chairs for each COR will convene meetings and set meeting agendas with administrative support from the European Commission and the NNCO. The CORs were proposed at the first U.S.-EU workshop on Bridging NanoEHS Research Efforts, which was held in Washington, DC, in March 2011. Based on feedback from the workshop participants, the following six Communities were launched in 2012:

• Exposure through the Life Cycle, with Material Characterization

• Ecotoxicity Testing and Predictive Models, with Material Characterization

• Predictive Modeling for Human Health, with Material Characterization

• Databases and Ontologies

• Risk Assessment

• Risk Management and Control

The 2013 workshop is intended to further develop and support the CORs' activities.

The CORs directly address Goal 4.2 of the 2011 National Nanotechnology Initiative Strategic Plan: “Develop tools and procedures for . . . international outreach and engagement to assist stakeholders in developing best practices for communicating and managing risks.” However, the CORs are not envisioned to provide any government agency with advice or recommendations.

The CORs will hold several webinars and/or conference calls between the publication date of this Notice and September 30, 2014. The envisioned end date for the CORs is September 30, 2014.

DATES: Monday, December 2, 2013, from 9:00 a.m. until 5:00 p.m. and Tuesday, December 3, 2013, from 9:00 a.m. until 4:00 p.m.

ADDRESSES: The workshop will be held at the National Science Foundation, 4201 Wilson Boulevard, Arlington, Virginia. Teleconferences and web meetings for the CORs will take place periodically between the publication date of this Notice and September 30, 2014. Meeting dates and call-in information will be posted on the Community of Research page at http://us-eu.org/ as meetings are scheduled.

Registration: Due to space limitations, pre-registration for the workshop is required. Registration is on a first-come, first-served basis and will be capped at approximately 100 participants. Registration will open on October 16, 2013. Individuals planning to attend the workshop should register online at http://us-eu.org/2013-u-s-eu-nanoehs-workshop/. Written notices of participation by email should be sent to sstandridge@nnco.nano.gov or mailed to Stacey Standridge, 4201 Wilson Blvd., Stafford II, Suite 405, Arlington, VA 22230. Individuals wishing to participate in any of the CORs should send the participant's name, affiliation, and country of residence to Stacey Standridge at either of the addresses above. NNCO will collect email addresses from registrants to ensure that they are included in COR conference calls and other meetings and that they receive information relevant to the COR scope from other COR members. Email addresses are submitted on a completely voluntary basis.

Those interested in presenting 3-5 minutes of public comments at the U.S.-EU workshop on Bridging NanoEHS Research Efforts or any of the COR meetings should register for the appropriate event. For those who are unable to attend the workshop or COR meetings in person, written or electronic comments should be submitted by email to sstandridge@nnco.nano.gov at least two business days prior to each meeting to provide time to copy and distribute the written comments to the participants.

FOR FURTHER INFORMATION CONTACT: For information regarding this Notice, please contact Stacey Standridge at National Nanotechnology Coordination Office, by telephone (703-292-8103) or email (sstandridge@nnco.nano.gov). Additional information about the workshop, including the agenda, is posted at http://us-eu.org/2013-u-s-eu-nanoehs-workshop/. Additional information about the CORs and their upcoming meetings is posted at http://us-eu.org/.

Meeting Accomodations: Individuals requiring special accommodation to access these public meetings should contact Stacey Standridge (telephone 703-292-8103) at least ten business days prior to each meeting so that appropriate arrangements can be made.

Ted Wackler,
Deputy Chief of Staff and Assistant Director.

[FR Doc. 2013-22551 Filed 9-13-13; 8:45 am]

BILLING CODE 3170-F3-P